DEPARTMENT OF COMMERCE

National Telecommunications and Information Administration

Proposed Information Collection; Comment Request; Community Connectivity Initiative Self-Assessment Tool

AGENCY: National Telecommunications and Information Administration, Department of Commerce.

ACTION: Notice.

SUMMARY: The Department of Commerce, as part of its continuing effort to reduce paperwork and respondent burden as required by the Paperwork Reduction Act of 1995, invites the general public and other federal agencies to take this opportunity to comment on the proposed framework for the community connectivity self-assessment tool. This framework is an element of the Community Connectivity Initiative, which is one of the commitments of the National Telecommunications and Information Administration (NTIA) through its work with the Broadband Opportunity Council, which President Obama established to review actions the federal government could take to reduce regulatory barriers to broadband deployment, competition, investment, and adoption. The Community Connectivity Initiative will support communities across the country with tools to help accelerate local broadband planning and deployment efforts. The community connectivity self-assessment tool will provide a framework of benchmarks and indicators on broadband access, adoption, policy and use, helping community leaders identify critical broadband needs and connect them with expertise and resources.

DATES: Written comments must be submitted on or before August 29, 2016.

ADDRESSES: Direct all written comments to Jennifer Jessup, Departmental Paperwork Clearance Officer, Department of Commerce, Room 6616, 1401 and Constitution Avenue NW., Washington, DC 20230 (or via the Internet at JJessup@doc.gov).

FOR FURTHER INFORMATION CONTACT: Requests for additional information or copies of the information collection instruments and instructions should be sent to Laura Spining, Telecommunications Policy Specialist, Broadband USA, National Telecommunications and Information Administration, U.S. Department of Commerce, 1401 Constitution Avenue NW., Room 4878, Washington, DC 20230 (or via email at lspining@ntia.doc.gov).

SUPPLEMENTARY INFORMATION:

I. Abstract

In March 2015, President Obama created the Broadband Opportunity Council (Council), composed of 25 federal departments and agencies, to determine what actions the federal government could take to eliminate regulatory barriers to broadband deployment and to encourage investment in broadband networks and services.¹ The Departments of Commerce and Agriculture co-chair the Council.

¹ The White House, Office of the Press Secretary, Presidential Memorandum—Expanding Broadband Deployment and Adoption by Addressing Regulatory Barriers and Encouraging Investment and Training (May 23, 2015), available at https://www.whitehouse.gov/the-press-office/2015/03/23/presidential-memorandum-expanding-broadband-deployment-and-adoption-addr.

In parallel with the work of the Council, NTIA launched BroadbandUSA in January 2015 to help satisfy a demand from communities that realize broadband access and use are vital to their economic development, innovation, education, and healthcare needs. BroadbandUSA offers technical assistance, guidance, and resources to communities across the country seeking to expand local broadband deployment, investment, and adoption.

In September 2015, the White House released the Council's report, which describes 36 concrete steps the member agencies will take over the next 18 months to reduce barriers and promote broadband investment and adoption.² The Community Connectivity Initiative is one of NTIA's commitments outlined in the Council's report.³ The purpose of the Community Connectivity Initiative is to empower communities with tools and resources to attract broadband investment and promote meaningful use. NTIA and the National Economic Council conducted outreach to more than 200 stakeholders and communities to seek input on the implementation of this action item. The initial findings of that outreach resulted in collaborators and communities assisting in the creation of the framework for the Community Connectivity Initiative.

² Broadband Opportunity Council, Report and Recommendations Pursuant to the Presidential Memorandum on Expanding Broadband Deployment and Adoption by Addressing Regulatory Barriers and Encouraging Investment and Training (Aug. 20, 2015) at 12, available at https://www.ntia.doc.gov/files/ntia/publications/broadband_opportunity_council_report_final.pdf.

³ Id. at 19. The report tasked NTIA, in collaboration with the National Economic Council, to “convene stakeholders to design and launch a community connectivity index.”

The objectives of the Community Connectivity Initiative are: (1) To support communities as they convene, assess, and act to promote local priorities and advance broadband access, adoption, policies, and use; and (2) to increase the number of communities actively assessing connectivity impacts and investing to improve broadband outcomes. The Community Connectivity Initiative includes three resources for communities, including the community connectivity framework, an online self-assessment tool, and a report with recommendations for each participating community. The community connectivity framework provides a structure to engage local stakeholders in conversations about broadband access and community priorities. The online self-assessment tool will provide local leaders with a framework for assessing broadband needs in their communities. The tool will enable them to record their findings and integrate the assessments with national datasets on community broadband. Upon completion of the self-assessment tool, communities will receive a report that combines input from the self-assessment tool with other data sources, along with recommendations for resources that they could use to improve their broadband capabilities.

NTIA is seeking input on the framework and types of questions that the self-assessment tool will ask local community leaders in order to help achieve local priorities and improve broadband planning efforts. NTIA will use the collection of information to support communities working to accelerate broadband deployment, deepen broadband adoption, strengthen local policies, and use broadband to advance local priorities. Through this effort, the Community Connectivity Initiative will produce improved broadband planning assets for communities, thereby increasing the number of communities actively investing to improve broadband access and digital inclusion.

The community connectivity self-assessment tool will collect local input across four major areas, incorporate key local data from national data sources, and produce a report focused on actions communities can take to support broadband deployment and adoption. The four major categories covered in the self-assessment tool are:

1. Broadband Access and Assets (Access)

2. Digital Inclusion and Skills (Adoption)

3. Policy and Funding (Policy)

4. Community Priorities (Use)

The access category will include imported and user-provided data on wireline and fixed wireless broadband access, mobile broadband access, and community technology assets. Additionally, the self-assessment tool will ask community leaders about their communications resilience planning efforts, the availability of WiFi hot spots and public computing centers, and their experiences with the availability, affordability, and quality of broadband in their localities.

The adoption category will include three sub-categories: broadband utilization, digital inclusion, and digital skills. The broadband utilization sub-category will ask about subscriptions to mobile data plans, connections to mobile data plans, and the number of internet-enabled devices owned by people in the community. The digital inclusion sub-category will include questions about the following: Outreach efforts to vulnerable populations; digital literacy training and support services; availability of discount and subsidy programs; device loan programs; and accessibility. The digital skills sub-category will ask community leaders about programs available to their populations that would provide advanced skills to prepare residents and businesses for the digital economy. This topic area includes: digital basics and work skills; digital participation and content creation; coding, computer science and application development; and privacy, security, and online safety.

The policy category will include three sub-categories: leadership, funding, and use of public assets. The leadership sub-category will seek information on whether community leaders consider community connectivity a priority, allocate resources appropriately, and incorporate broadband planning and technology innovation across local agencies. The funding sub-category will ask how a community funds public access, digital inclusion, innovation, and technology as funding decisions reflect a community's support for broadband deployment and digital equity. The use of public assets sub-category will ask about accessible inventory of public assets, regulations providing for fair use of assets, and processes enabling use and promoting accountability.

The use category will include questions about a community's use of broadband applications in the following areas: Government services and public safety; economic development and innovation; and education and health. The government services and public safety sub-category will ask about e-government services, citizen engagement, safety communications, and network resilience and reliability. The economic development and innovation sub-category will ask about workforce development. The education and health sub-category will ask about student device ownership and support; broadband capacity to schools and libraries; electronic health records; telemedicine; and broadband capacity and connections to hospitals and clinics.

Description of Proposed Use

The community connectivity self-assessment tool will capture local information about broadband access, digital inclusion, adoption, policies, and priorities. The self-assessment tool will use the information input by the community leaders in combination with existing information from national data sources to create a report targeted to the needs of the local community. The resulting report will present the information that is relevant to the local community and provide recommendations for action along with references to BroadbandUSA and other resources. NTIA intends to use this self-assessment to support communities as they consider investments and actions to further align broadband access with community priorities.

A primary strategy for reducing respondents' burden in the self-assessment tool is to create the reports using existing national data sources, which may include data from the American Communities Survey produced by the U.S. Census Bureau and Broadband Deployment and Subscription data collected by the Federal Communications Commission.

II. Method of Collection

This will be administered as a voluntary online tool for communities.

III. Data

OMB Control Number: None.

Form Number(s): None.

Type of Review: Regular submission; new collection.

Affected Public: State, regional, local, and tribal government organizations.

Frequency: Annually.

Number of Respondents: 500.

Average Time per Response: 12 hours.

Estimated Total Annual Burden Hours: 6,000.

Estimated Total Annual Cost to Public: $406,730.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: June 22, 2016.
Glenna Mickelson,
Management Analyst, Office of the Chief Information Officer.

[FR Doc. 2016-15149 Filed 6-27-16; 8:45 am]

BILLING CODE P